DEPARTMENT OF JUSTICE

Antitrust Division

Notice Pursuant to the National Cooperative Research and Production Act of 1993—Joint Industry Project for Fluid Properties Meter Development and Support

Notice is hereby given that, on May 20, 2008, pursuant to Section 6(a) of the National Cooperative Research and Production Act of 1993, 15 U.S.C. 4301 et seq. (‘the Act'), Southwest Research Institute: Joint Industry Project for Fluid Properties Meter Development and Support (“SwRI: Fluid Properties Meter”) has filed written notifications simultaneously with the Attorney General and the Federal Trade Commission disclosing changes in its nature and objective. The notifications were filed for the purpose of extending the Act's provisions limiting the recovery of antitrust plaintiffs to actual damages under specified circumstances. Specifically, the period of performance has been extended to June 30, 2008.

No other changes have been made in either the membership or planned activity of the group research project. Membership in this group research project remains open, and SwRI: Fluid Properties Meter intends to file additional written notifications disclosing all changes in membership.

On November 30, 2004, SwRI: Fluid Properties Meter filed its original notification pursuant to Section 6(a) of the Act. The Department of Justice published a notice in the Federal Register pursuant to Section 6(b) of the Act on February 2, 2005 (70 FR 5487).

The last notification was filed with the Department on April 11, 2005. A notice was published in the Federal Register pursuant to Section 6(b) of the Act on June 15, 2005 (70 FR 34796).

Patricia A. Brink,
Deputy Director of Operations, Antitrust Division.

[FR Doc. E8-13659 Filed 6-17-08; 8:45 am]

BILLING CODE 4410-11-M